DEPARTMENT OF THE INTERIOR

Bureau of Land Management

[CO-200-1040-PH]

Notice of Intent To Prepare the Cache Creek Travel Management Plan and Amend the Royal Gorge Resource Management Plan

AGENCY: Bureau of Land Management, Interior.

ACTION: Notice of intent to prepare an amendment to the Royal Gorge Resource Management Plan, and prepare an Environmental Assessment (EA).

SUMMARY: The Bureau of Land Management (BLM) announces the initiation of a Resource Management Plan (RMP) amendment for the Cache Creek Travel Management Plan, pursuant to the BLM planning regulations in 43 CFR 1600. The proposed Travel Management Plan will convert BLM's current Off-Highway Vehicle (OHV) designation of “limited to existing roads and trails” to one of “limited to designated roads and trails”, to implement a decision in the Royal Gore Resource Management Plan, approved in May 1996. The EA will analyze and compare the impacts of the change in OHV designation and management with continuing current management, and other alternatives that may be identified. The Travel Management Plan is being prepared through coordination with other federal, state and local agencies, and affected public land users.

DATES: Interested parties may submit written comments to the Field Office Manager at the address listed below. Comments will be accepted until June 15, 2001.

ADDRESSES: If you wish to comment, request additional information or request to be put on the mailing list, you may do so by any of several methods. You may mail or hand deliver your comments or requests to: Field Office Manager, Bureau of Land Management, Royal Gorge Field Office, 3170 East Main Street, Canon City, CO 81212, (719) 269-8500. You may also comment via email to: RGFOWEB@blm.gov. Please submit email comments as an ASCII file avoiding the use of special characters and any form of encryption. Please also include your name and address in your email message.

Comments, including names and addresses of respondents, will be available for public review at the BLM office listed above during regular business hours. Individual respondents may request confidentiality. If you wish to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, are available for public inspection in their entirety.

FOR FURTHER INFORMATION CONTACT: Levi D. Deike, Field Office Manager, or Pete Zwaneveld, Team Leader at the Royal Gorge Field Office address listed above or by calling (719) 269-8500.

SUPPLEMENTARY INFORMATION: The planning area involves approximately 3,760 acres located in northern Chaffee County, about 15 miles north of Buena Vista, CO. The main issues anticipated for this planning effort are: (1) Impacts to water quality, vegetation, including riparian and wetland areas; and soils; (2) impacts to wildlife habitat, especially the elk critical winter range and elk calving area, and (3) impacts to public land users and adjacent private landowners. The Cache Creek Travel Management Plan is being prepared by an interdisciplinary team, including representation from recreation, wildlife, riparian/wetlands, fisheries, minerals, lands, archaeology, and forestry. The analysis and proposed plan amendment are scheduled for completion in September 2001.

Notification will be made to the Governor of Colorado, Chaffee & Lake County Commissioners, adjacent landowners, and potentially affected members of the public. A public comment period will be established upon completion of the EA on the Cache Creek Travel Management Plan. The time frame for the public comment period will be announced in the local media. The Proposed Plan Amendment will be published during the EA process and will include a 30-day protest period.

Levi D. Deike,
Field Office Manager.

[FR Doc. 01-13122 Filed 5-23-01; 8:45 am]

BILLING CODE 4310-JB-M